DEPARTMENT OF JUSTICE

Notice of Lodging of Proposed Settlement Agreement Under the Comprehensive Environmental Response, Compensation, and Liability Act

On January 19, 2017, the Department of Justice lodged a proposed settlement agreement with the United States Bankruptcy Court for the District of Delaware in the lawsuit entitled In re SRC Liquidation LLC, et al., Case No. 15-10541-BLS (Bankr. D. Del). The proposed settlement agreement, if approved, will fully resolve the proof of claim filed by the United States, on behalf of the U.S. Environmental Protection Agency (“EPA”), against SRC Liquidation LLC (“SRC”), formerly known as The Standard Register Company, contending that SRC is liable under the Comprehensive Environmental Response, Compensation, and Liability Act (“CERCLA”), 42 U.S.C. 9601-9675, for response costs incurred and to be incurred by the United States at the Valleycrest Landfill Superfund Site (a/k/a/North Sanitary Landfill) in the City of Dayton, Montgomery County, Ohio (“Site”). Under the proposed settlement agreement, the United States, on behalf of EPA, shall have an allowed general unsecured claim against SRC of $4,300,000, which shall be entitled to the same treatment as other allowed general unsecured claims under SRC's approved plan of liquidation.

The publication of this notice opens a period for public comment on the proposed settlement agreement. Comments should be addressed to the Assistant Attorney General, Environment and Natural Resources Division, and should refer to In re SRC Liquidation LLC, et al., D.J. Ref. No. 90-11-3-11076/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed settlement agreement may be examined and downloaded at this Justice Department Web site: https://www.justice.gov/enrd/consent-decrees. We will also provide a paper copy of the proposed settlement agreement upon written request and payment of reproduction costs. Please mail your request and payment to: Consent Decree Library, U.S. DOJ—ENRD, P.O. Box 7611, Washington, DC 20044-7611.

Please enclose a check or money order for $3.00 (12 pages at 25 cents per page reproduction cost) payable to the United States Treasury.

Randall M. Stone,
Acting Assistant Section Chief, Environmental Enforcement Section, Environment and Natural Resources Division.

[FR Doc. 2017-02334 Filed 2-2-17; 8:45 am]

BILLING CODE 4410-15-P